DEPARTMENT OF TRANSPORTATION

Federal Aviation Administration

14 CFR Part 39

[Docket No. FAA-2006-24074; Directorate Identifier 2005-NM-213-AD; Amendment 39-14676; AD 2006-14-05]

RIN 2120-AA64

Airworthiness Directives; Bombardier Model CL-600-2C10 (Regional Jet Series 700, 701, and 702) Airplanes, Model CL-600-2D15 (Regional Jet Series 705) Airplanes, and Model CL-600-2D24 (Regional Jet Series 900) Airplanes

AGENCY: Federal Aviation Administration (FAA), Department of Transportation (DOT).

ACTION: Final rule.

SUMMARY: The FAA is superseding an existing airworthiness directive (AD), which applies to certain Bombardier Model CL-600-2C10 (Regional Jet Series 700 and 701) and CL-600-2D24 (Regional Jet Series 900) series airplanes. That AD currently requires repetitive detailed inspections for cracking or deformation, or pulled or missing fasteners, on the lower panel of the left- and right-hand main landing gear (MLG) doors, as applicable, and corrective actions if necessary. This new AD reduces the repetitive inspection interval for certain airplanes. This new AD also adds airplanes to the applicability. This AD results from a report of a MLG door departing from an airplane. We are issuing this AD to prevent failure of the lower panel of the MLG door, departure of the lower panel from the airplane, and consequent damage to airplane structure, which could adversely affect the airplane's continued safe flight and landing.

DATES: This AD becomes effective August 15, 2006.

The Director of the Federal Register approved the incorporation by reference of certain publications listed in the AD as of August 15, 2006.

ADDRESSES: You may examine the AD docket on the Internet at http://dms.dot.gov or in person at the Docket Management Facility, U.S. Department of Transportation, 400 Seventh Street, SW., Nassif Building, Room PL-401, Washington, DC.

Contact Bombardier, Inc., Canadair, Aerospace Group, P.O. Box 6087, Station Centre-ville, Montreal, Quebec H3C 3G9, Canada, for service information identified in this AD.

FOR FURTHER INFORMATION CONTACT: Richard Beckwith, Aerospace Engineer, Airframe and Propulsion Branch, ANE-171, FAA, New York Aircraft Certification Office, 1600 Stewart Avenue, suite 410, Westbury, New York 11590; telephone (516) 228-7302; fax (516) 794-5531.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that supersedes AD 2003-19-51, amendment 39-13353 (68 FR 61615, October 29, 2003). The existing AD applies to certain Bombardier Model CL-600-2C10 (Regional Jet Series 700 and 701) and CL-600-2D24 (Regional Jet Series 900) series airplanes (originally issued September 17, 2003, as an emergency airworthiness directive). That NPRM was published in the Federal Register on March 7, 2006 (71 FR 11335). That NPRM proposed to continue to require repetitive detailed inspections for cracking or deformation, or pulled or missing fasteners, on the lower panel of the left- and right-hand main landing gear (MLG) doors, as applicable, and corrective actions if necessary. That NPRM also proposed to reduce the repetitive inspection interval for certain airplanes and to add airplanes to the applicability.

Comments

We provided the public the opportunity to participate in the development of this AD. No comments have been received on the NPRM or on the determination of the cost to the public.

Revision of Corrective Action Paragraph (i)(2)

We have revised paragraph (i)(2) of this AD to specify that the replacement be done in accordance with a method approved by the Manager, New York Aircraft Certification Office (ACO), FAA; or Transport Canada Civil Aviation (TCCA) (or its delegated agent), and that doing the replacement in accordance with Task Cards 32-12-01-000-801-A01 and 32-12-01-400-801-A01 of the CRJ 700/900 Series Regional Jet Aircraft Maintenance Manual is one approved method.

Clarification of Paragraph (k) Requirements

We have revised paragraph (k) of this AD to clarify that inspections must be done on installed door(s) that have previously been inspected in accordance with paragraph (g).

Clarification of AFM Reference

We have revised the AFM reference specified in paragraphs (m)(2)(i) and (m)(2)(ii) of this AD.

Conclusion

We have carefully reviewed the available data, and determined that air safety and the public interest require adopting the AD with the changes described previously. We have determined that these changes will neither increase the economic burden on any operator nor increase the scope of the AD.

Interim Action

We consider this AD interim action. If final action is later identified, we may consider further rulemaking then.

Costs of Compliance

The following table provides the estimated costs for U.S. operators to comply with this AD. This affects about 213 airplanes of U.S. registry.

Estimated Costs
Action | Work hours | Average labor rate per hour | Cost per airplane | Number of U.S.- registered airplanes | Fleet cost
Inspections (required by AD 2003-19-51) | 1 | $65 | $65, per inspection cycle | 83 | $5,395, per inspection cycle.
Inspections (new action) | 1 | 65 | $65, per inspection cycle | 213 | $13,854, per inspection cycle.
Revision (new action) | 1 | 65 | $65, if necessary | 213 | Up to $13,854.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-13353 (68 FR 61615, October 29, 2003) and by adding the following new airworthiness directive (AD):

2006-14-05 Bombardier, Inc. (Formerly Canadair): Amendment 39-14676. Docket No. FAA-2006-24074; Directorate Identifier 2005-NM-213-AD.

Effective Date

(a) This AD becomes effective August 15, 2006.

Affected ADs

(b) This AD supersedes AD 2003-19-51.

Applicability

(c) This AD applies to Bombardier Model CL-600-2C10 (Regional Jet Series 700, 701, and 702) airplanes, serial numbers (S/Ns) 10003 and subsequent; and Model CL-600-2D15 (Regional Jet Series 705) airplanes and Model CL-600-2D24 (Regional Jet Series 900) airplanes, S/Ns 15001 and subsequent; certificated in any category.

Unsafe Condition

(d) This AD results from a report of a main landing gear (MLG) door departing from an airplane. We are issuing this AD to prevent failure of the lower panel of the MLG door, departure of the lower panel from the airplane, and consequent damage to airplane structure, which could adversely affect the airplane's continued safe flight and landing.

Compliance

(e) You are responsible for having the actions required by this AD performed within the compliance times specified, unless the actions have already been done.

Restatement of Requirements of AD 2003-19-51

Initial Compliance Time

(f) For Model CL-600-2C10 (Regional Jet series 700 & 701) series airplanes, S/Ns 10003 through 10999 inclusive; and Model CL-600-2D24 (Regional Jet series 900) series airplanes, S/Ns 15002 through 15990 inclusive: Perform the initial inspection specified in paragraph (g) of this AD at the applicable time specified in paragraph (f)(1) or (f)(2) of this AD.

(1) For airplanes with fewer than 1,500 total flight cycles as of November 3, 2003 (the effective date of AD 2003-19-51): Do the inspections before the accumulation of 1,050 total flight cycles, or within 50 flight cycles after the effective date of this AD, whichever is later.

(2) For airplanes with 1,500 or more total flight cycles as of November 3, 2003: Do the inspections within 10 flight cycles after the effective date of this AD.

Inspections

(g) For Model CL-600-2C10 (Regional Jet series 700 & 701) series airplanes, S/Ns 10003 through 10999 inclusive; and Model CL-600-2D24 (Regional Jet series 900) series airplanes, S/Ns 15002 through 15990 inclusive: At the applicable time specified in paragraph (f) of this AD, perform detailed inspections of the lower panel, part number (P/N) CC670-10520, of the left- and right-hand MLG doors for the conditions and in the areas specified in paragraphs (g)(1), (g)(2), (g)(3), and (g)(4) of this AD; and Figures 1, 2, and 3 of this AD.

Note 1: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

(1) Inspect the cross member, P/N CC670-10572, of the MLG door lower panel for cracking or deformation, in accordance with Figure 2 of this AD.

(2) Inspect the inner skin, P/N CC670-10577, of the MLG door lower panel at the cross member (P/N CC670-10572) for cracking or deformation, or pulled or missing fasteners, in accordance with Figure 2 of this AD.

(3) Inspect the outer skin, P/N CC670-10574, of the MLG door lower panel at the cross member (P/N CC670-10572) for cracking or deformation, or pulled or missing fasteners, in accordance with Figure 2 of this AD.

(4) Inspect the forward member, P/N CC670-10570, and aft member, P/N CC670-10571, of the MLG door lower panel for cracking or deformation, or pulled or missing fasteners, in accordance with Figure 3 of this AD. Figures 1 through 3 of this AD follow.

BILLING CODE 4910-13-U

BILLING CODE 4910-13-C

Repetitive Inspections

(h) If no cracking or deformation, or pulled or missing fastener, as applicable, is found during any inspection required by paragraph (g) or (h) of this AD, repeat the inspections thereafter at intervals not to exceed 100 flight cycles.

Corrective Actions

(i) If any cracking or deformation, or pulled or missing fastener, as applicable, is found during any inspection done in accordance with paragraph (g) or (h) of this AD: Before further flight, accomplish paragraph (i)(1), (i)(2), or (i)(3) of this AD.

(1) Repair the damage in accordance with a method approved by either the Manager, New York Aircraft Certification Office (ACO), FAA; or Transport Canada Civil Aviation (TCCA) (or its delegated agent); and accomplish repetitive inspections in accordance with a method and at a repetitive interval approved by same.

(2) Replace the lower panel assembly, P/N CC670-10520, of the affected MLG door with a new or serviceable lower panel assembly having the same P/N, according to a method approved by either the Manager, New York ACO, FAA; or TCCA (or its delegated agent). Task Cards 32-12-01-000-801-A01 and 32-12-01-400-801-A01 of the CRJ 700/900 Series Regional Jet Aircraft Maintenance Manual are one approved method of doing the replacement. Repeat the inspections specified in paragraph (g) of this AD at intervals not to exceed 100 flight cycles.

(3) Remove the lower panel assembly, P/N CC670-10520, of the affected MLG door, and accomplish paragraph (i)(3)(i) or (i)(3)(ii), as applicable.

(i) For Model CL600-2C10 (Regional Jet series 700 & 701) series airplanes: Revise the Configuration Deviation List (CDL), Appendix 1, of the airplane flight manual (AFM), to include the following limitations. This may be accomplished by inserting a copy of this AD into the CDL of the AFM.

“For Model CL600-2C10 series airplanes: If one or both door panel assemblies, part number CC670-10520, is missing:

(1) Take-off Weight is reduced by 202.5 kg/door, or 450 lb/door

(2) Enroute Climb Weight is reduced by 445.5 kg/door, or 990 lb/door

(3) Landing Weight is reduced by 202.5 kg/door, or 450 lb/door

(4) Fuel Consumption is increased by +3.42% on fuel used/door

(5) Cruise Airspeed is limited to not more than 0.78 Mach.”

(ii) For Model CL-600-2D24 (Regional Jet series 900) series airplanes: Revise the CDL, Appendix 1, of the AFM, to include the following limitations. This may be accomplished by inserting a copy of this AD into the CDL of the AFM.

“For Model CL600-2D24 series airplanes: If one or both door panel assemblies, part number CC670-10520, is missing:

(1) Take-off Weight is reduced by 245 kg/door, or 540 lb/door

(2) Enroute Climb Weight is reduced by 551 kg/door, or 1,215 lb/door

(3) Landing Weight is reduced by 245 kg/door, or 540 lb/door

(4) Fuel Consumption is increased by +3.42% on fuel used/door

(5) Cruise Airspeed is limited to not more than 0.78 Mach.”

New Requirements of This AD

Inboard MLG Door Inspections

(j) For all airplanes on which an inspection has not been done in accordance with paragraph (g) of this AD on or before the effective date of this AD: At the applicable time specified in paragraph (j)(1) or (j)(2) of this AD, do the inspections of the left- and right-hand inboard MLG doors for damage in accordance with Part A of the Accomplishment Instructions of Bombardier Alert Service Bulletin A670BA-32-016, Revision A, dated June 7, 2005, excluding Appendix A, dated June 2, 2005, and including Appendix B, dated June 2, 2005. Doing the inspections required by this paragraph terminates the actions required by paragraphs (f) through (i) of this AD.

(1) For airplanes that have accumulated fewer than 1,500 total flight cycles as of the effective date of this AD: Before the accumulation of 1,000 total flight cycles or within 50 flight cycles after the effective date of this AD, whichever occurs later.

(2) For airplanes that have accumulated 1,500 flight cycles or more as of the effective date of this AD: Within 10 flight cycles after the effective date of this AD.

(k) For airplanes on which an inspection has been done in accordance with paragraph (g) of this AD on or before the effective date of this AD: At the applicable time specified in paragraph (k)(1) or (k)(2) of this AD, inspect installed door(s) as specified in paragraph (j) of this AD. Doing the inspections required by this paragraph terminates the actions required by paragraphs (f) through (i) of this AD.

(1) For airplanes that are not subject to an approved alternative method of compliance (AMOC) that extends the inspection interval to 450 flight cycles: Within 100 flight cycles since the last inspection done in accordance with paragraph (g) of this AD.

(2) For airplanes that are subject to an approved AMOC that extends the inspection interval to 450 flight cycles: At the earlier of the times specified in paragraphs (k)(2)(i) and (k)(2)(ii) of this AD:

(i) Within 450 flight cycles since the last inspection done in accordance with paragraph (g) of this AD.

(ii) Within 100 flight cycles since the last inspection done in accordance with paragraph (g) of this AD or within 50 cycles after the effective date of this AD, whichever occurs later.

(l) If no damage is found during any inspection done in accordance with paragraph (j) of this AD, repeat the inspections specified in paragraph (j) of this AD thereafter at intervals not to exceed 100 flight cycles.

Corrective Action—Replace or Remove MLG Door

(m) If any damage is found during any inspection done in accordance with paragraph (j) of this AD, before further flight, do the actions in paragraph (m)(1) or (m)(2) of this AD. Repeat the inspections specified in paragraph (j) of this AD thereafter at intervals not to exceed 100 flight cycles.

(1) Replace the inboard MLG door with a new or repaired door in accordance with Part B of the Accomplishment Instructions of the Bombardier Alert Service Bulletin A670BA-32-016, Revision A, dated June 7, 2005, excluding Appendix A, dated June 2, 2005, and including Appendix B, dated June 2, 2005; except where the service bulletin specifies to contact the manufacturer for repair if no generic repair engineering order (REO) is available, before further flight, repair using a method approved by either the Manager, New York ACO, FAA; or the TCCA (or its delegated agent).

(2) Remove the inboard MLG door in accordance with Part B of the Accomplishment Instructions of the Bombardier Alert Service Bulletin A670BA-32-016, Revision A, dated June 7, 2005, excluding Appendix A, dated June 2, 2005, and including Appendix B, dated June 2, 2005; and accomplish paragraph (m)(2)(i) or (m)(2)(ii), as applicable.

(i) For Model CL-600-2C10 (Regional Jet Series 700, 701, & 702) airplanes and Model CL-600-2D15 (Regional Jet Series 705) airplanes: Revise the Configuration Deviation List (CDL), Appendix 1, of the Bombardier Canadair Regional Jet AFM, to include the following limitations. This may be accomplished by inserting a copy of this AD into the CDL of the AFM. Remove any existing CDL limitation required by paragraph (i)(3)(i) of this AD from the AFM.

“For Model CL-600-2C10 (Regional Jet Series 700, 701, & 702) airplanes and Model CL-600-2D15 (Regional Jet Series 705) airplanes: If one or both door panel assemblies, part number CC670-10520, is missing:

(1) Take-off Weight is reduced by 202.5 kg/door, or 450 lb/door

(2) Enroute Climb Weight is reduced by 445.5 kg/door, or 990 lb/door

(3) Landing Weight is reduced by 202.5 kg/door, or 450 lb/door

(4) Fuel Consumption is increased by +2.5% on fuel used/door

(5) Cruise Airspeed is limited to not more than 0.78 Mach

(6) The climb ceiling obtained from the Flight Planning and Cruise Control Manual (FPCCM) must be reduced by 1,000 ft/door.”

Note 2: When a statement with the information specified in paragraph (m)(2)(i) of this AD has been included in the general revisions of the AFM, the general revisions may be inserted into the AFM, and the copy of this AD may be removed from the AFM.

(ii) For Model CL-600-2D24 (Regional Jet Series 900) airplanes: Revise the CDL, Appendix 1, of the Bombardier Canadair Regional Jet AFM, to include the following limitations. This may be accomplished by inserting a copy of this AD into the CDL of the AFM. Remove any existing CDL limitation required by paragraph (i)(3)(ii) of this AD from the AFM.

“For Model CL-600-2D24 (Regional Jet Series 900) airplanes: If one or both door panel assemblies, part number CC670-10520, is missing:

(1) Take-off Weight is reduced by 245 kg/door, or 540 lb/door

(2) Enroute Climb Weight is reduced by 551 kg/door, or 1,215 lb/door

(3) Landing Weight is reduced by 245 kg/door, or 540 lb/door

(4) Fuel Consumption is increased by +2.5% on fuel used/door

(5) Cruise Airspeed is limited to not more than 0.78 Mach

(6) The climb ceiling obtained from the Flight Planning and Cruise Control Manual (FPCCM) must be reduced by 1,000 ft/door.”

Note 3: When a statement with the information specified in paragraph (m)(2)(ii) of this AD has been included in the general revisions of the AFM, the general revisions may be inserted into the AFM, and the copy of this AD may be removed from the AFM.

Revise CDL

(n) For airplanes on which the door(s) have been removed in accordance with paragraph (i)(3) of this AD: Within 30 days after the effective date of this AD, do the revision specified in paragraph (m)(2)(i) or (m)(2)(ii) of this AD, as applicable, and remove any revision required by paragraph (i)(3)(i) or (i)(3)(ii) of this AD.

No Reporting Required

(o) Although Bombardier Alert Service Bulletin A670BA-32-016, Revision A, dated June 7, 2005, specifies to submit certain information to the manufacturer, this AD does not include that requirement.

Actions Accomplished According to Previous Issue of Service Bulletin

(p) Actions accomplished before the effective date of this AD according to Bombardier Alert Service Bulletin A670BA-32-016, dated June 2, 2005, are considered acceptable for compliance with the corresponding action specified in this AD.

Alternative Methods of Compliance (AMOCs)

(q)(1) The Manager, New York ACO, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

(3) AMOCs approved previously in accordance with AD 2003-19-51 are not approved as AMOCs with this AD.

Related Information

(r) Canadian airworthiness directive CF-2003-23R2, dated July 27, 2005, also addresses the subject of this AD.

Material Incorporated by Reference

(s) You must use Bombardier Alert Service Bulletin A670BA-32-016, Revision A, dated June 7, 2005, excluding Appendix A, dated June 2, 2005, and including Appendix B, dated June 2, 2005, to perform the actions that are required by this AD, unless the AD specifies otherwise. The Director of the Federal Register approved the incorporation by reference of this document in accordance with 5 U.S.C. 552(a) and 1 CFR part 51. Contact Bombardier, Inc., Canadair, Aerospace Group, P.O. Box 6087, Station Centre-ville, Montreal, Quebec H3C 3G9, Canada, for a copy of this service information. You may review copies at the Docket Management Facility, U.S. Department of Transportation, 400 Seventh Street, SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on June 28, 2006.
Kalene C. Yanamura,
Acting Manager, Transport Airplane Directorate, Aircraft Certification Service.

[FR Doc. 06-6051 Filed 7-10-06; 8:45 am]

BILLING CODE 4910-13-U